COMMISSION ON OCEAN POLICY

Public Meeting

AGENCY: U.S. Commission on Ocean Policy.

ACTION: Notice.

SUMMARY: The U.S. Commission on Ocean Policy will hold its seventh regional meeting, the Commission's ninth public meeting, to hear and discuss coastal and ocean issues of concern to the Northeast region of the United States, covering the area from New Jersey to Maine.

DATES: Public meetings will be held Tuesday, July 23, 2002 from 12:30 p.m. to 6 p.m. and Wednesday, July 24, 2002 from 8:30 a.m. to 6 p.m.

ADDRESSES: The meeting location is Historic Faneuil Hall, 0 Faneuil Hall Square, Boston, Massachusetts 02109.

FOR FURTHER INFORMATION CONTACT: Terry Schaff, U.S. Commission on Ocean Policy, 1120 20th Street, NW., Washington, DC, 20036, 202-418-3442, schaff@oceancommission.gov.

SUPPLEMENTARY INFORMATION: This meeting is being held pursuant to requirements under the Oceans Act of 2000 (Pub. L. 106-256, Section 3(e)(1)(E)). The agenda will include presentations by invited speakers representing local and regional government agencies and non-governmental organizations, comments from the public and any required administrative discussions and executive sessions. Invited speakers and members of the public are requested to submit their statements for the record electronically by Monday, July 15, 2002 to the meeting Point of Contact. A public comment period is scheduled for Wednesday, July 24, 2002. The meeting agenda, including the specific time for the public comment period, and guidelines for making public comments will be posted on the Commission's Web site at http://www.oceancommission.gov prior to the meeting.

Dated: June 19, 2002.
James D. Watkins,
Admiral, USN (Ret.), Chairman, U.S. Commission on Ocean Policy.

[FR Doc. 02-15948 Filed 6-24-02; 8:45 am]

BILLING CODE 6820-WM-P